DEPARTMENT OF ENERGY

Federal Energy Regulatory Commission

[Docket No. EL14-34-000]

Public Service Commission of Wisconsin v. Midcontinent Independent System Operator, Inc.; Notice of Complaint

Take notice that on April 3, 2014, the Public Service Commission of Wisconsin (PSCW) filed a formal complaint against Midcontinent Independent System Operator, Inc. (MISO) pursuant to sections 206 and 306 of the Federal Power Act (FPA),¹ and Rule 206 of the Rules of Practice and Procedures ² of the Federal Energy Regulatory Commission (Commission), alleging that a provision of Module A, section 38.2.7.k of MISO's Open Access Transmission, Energy and Operating Reserves Markets, and the provision's implementation in Rate Schedule 43G with respect to a System Support Resource Agreement between MISO and Wisconsin Electric Power Company is unjust, unreasonable, and unduly discriminatory.

¹ 16 U.S.C. 824e, 825e. (2012).

² 18 CFR 385.206 (2014).

The PSCW certifies that copies of the complaint were served on the contacts for MISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 5, 2014.

Dated: April 4, 2014.
Nathaniel J. Davis, Sr.,
Deputy Secretary.

[FR Doc. 2014-08093 Filed 4-10-14; 8:45 am]

BILLING CODE 6717-01-P